DEPARTMENT OF THE TREASURY

Office of Foreign Assets Control

Unblocking of Specially Designated Nationals and Blocked Persons Pursuant to the Cuban Assets Control Regulations.

AGENCY: Office of Foreign Assets Control, Treasury.

ACTION: Notice.

SUMMARY: The Department of the Treasury's Office of Foreign Assets Control (“OFAC”) is publishing the name of 26 vessels whose property and interests in property have been unblocked pursuant to the Cuban Assets Control Regulations, 31 CFR part 515.

DATES: The unblocking and removal from the list of Specially Designated Nationals and Blocked Persons (“SDN List”) by the Director of OFAC of the 26 vessels identified in this notice is effective July 30, 2013.

FOR FURTHER INFORMATION CONTACT: Assistant Director, Sanctions Compliance & Evaluation, Office of Foreign Assets Control, Department of the Treasury, 1500 Pennsylvania Avenue NW. (Treasury Annex), Washington, DC 20220, Tel.: 202/622-2490.

SUPPLEMENTARY INFORMATION:

Electronic and Facsimile Availability

The SDN List and additional information concerning OFAC are available from OFAC's Web site (www.treas.gov/ofac). Certain general information concerning OFAC is also available via facsimile through a 24-hour fax-on-demand service, Tel.: 202/622-0077.

Background

On July 30, 2013, the Director of OFAC removed from the list of Specially Designated Nationals and Blocked Persons the 26 vessels listed below, whose property and interests in property were blocked pursuant to the CACR.

1. ACECHILLY Unknown vessel type (Acechilly Navigation Co., Malta) (vessel) [CUBA].

2. ACEFROSTY Unknown vessel type (Acefrosty Shipping Co., Malta) (vessel) [CUBA].

3. ALAMINOS (f.k.a. RUBY ISLANDS) (P32C3) General Cargo 15,088DWT 8,909GRT Cyprus flag (Alaminos Shipping Co. Ltd.) (vessel) [CUBA].

4. CARIBBEAN PRINCESS (C4GL) General Cargo 24,155DWT 16,794GRT Cyprus flag (CARIBBEAN PRINCESS SHIPPING (SDN)) (vessel) [CUBA].

5. CARIBBEAN QUEEN (C4JO) General Cargo 24,106DWT 16,794GRT Cyprus flag (CARIBBEAN QUEEN SHIPPING (SDN)) (vessel) [CUBA].

6. CASABLANCA Unknown vessel type (Epamac Shipping Co., Ltd., Malta) (vessel) [CUBA].

7. COTTY Unknown vessel type (Heywood Navigation Corp., Panama) (vessel) [CUBA].

8. EMERALD ISLANDS (9HRP2) General Cargo 15,088DWT 8,909GRT Malta flag (BETTINA SHIPPING CO. LTD. (SDN)) (vessel) [CUBA].

9. FLYING DRAGON Unknown vessel type (Flight Dragon Shipping Ltd., Malta) (vessel) [CUBA].

10. FRIGO HISPANIA Unknown vessel type (Ace Indic Navigation Co., Malta) (vessel) [CUBA].

11. GRETE STAR (f.k.a. AVIS FAITH) (HOQD) Container Ship 17,820DWT 11,318GRT Panama flag (Avisfaith Shipping) (vessel) [CUBA].

12. HUNTSLAND Unknown vessel type (Huntsland Navigation Co., Ltd., Malta) (vessel) [CUBA].

13. HUNTSVILLE Unknown vessel type (Huntsville Navigation Co., Ltd., Malta) (vessel) [CUBA].

14. HURACAN Unknown vessel type (Senanque Shipping Co., Ltd., Cyprus) (vessel) [CUBA].

15. LAS COLORADOS Unknown vessel type (Naviera Maritima de Arosa, Spain) (vessel) [CUBA].

16. LAURA I (f.k.a. LAURA) (HP7988) Container Ship 2,213DWT 1,843GRT Panama flag (Naviera Polovina S.A.) (vessel) [CUBA].

17. LILAC ISLANDS (3FIM2) General Cargo 15,175DWT 8,976GRT Panama flag (VALETTA SHIPPING CORPORATION (SDN)) (vessel) [CUBA].

18. LOTUS ISLANDS (3FIL2) General Cargo 15,175DWT 8,976GRT Panama flag (WADENA SHIPPING CORPORATION (SDN)) (vessel) [CUBA].

19. NORTH ISLANDS (P3CH2) General Cargo 15,136DWT 8,996GRT Cyprus flag (NORTH ISLAND SHIPPING CO. LTD. (SDN)) (vessel) [CUBA].

20. ONYX ISLANDS Unknown vessel type (Maryol Enterprises, Inc., Panama) (vessel) [CUBA].

21. PALMA MOCHA Unknown vessel type (Naviera Maritima de Arosa, Spain) (vessel) [CUBA].

22. PINO DEL AGUA Unknown vessel type (Naviera Maritima de Arosa, Spain) (vessel) [CUBA].

23. RAHIM 3 Unknown vessel type (Pioneer Shipping Ltd., Malta) (vessel) [CUBA].

24. SENANQUE (5BJR) General Cargo 5,479DWT 2,974GRT Cyprus flag (SENANQUE SHIPPING CO. LTD. (SDN)) (vessel) [CUBA].

25. STANDWEAR (5BQH) Bulk Carrier 19,095DWT 12,147GRT Cyprus flag (STANDWEAR SHIPPING CO. LTD. (SDN)) (vessel) [CUBA].

26. TAMMANY H (f.k.a. PRIMROSE ISLANDS) (5BXG) Bulk Carrier 26,400DWT 15,864GRT Cyprus flag (Odielo Shipping Co. Ltd.) (vessel) [CUBA].

Dated: July 30, 2013.
Adam Szubin,
Director, Office of Foreign Assets Control.

[FR Doc. 2013-18958 Filed 8-5-13; 8:45 am]

BILLING CODE 4810-AL-P